DEPARTMENT OF TRANSPORATION

Federal Aviation Administration

14 CFR Parts 91 and 135

[Docket No. FAA-2005-20245; Amendment No. 23-58, 25-124, 27-43, 29-50, 91-300, 121-338, 125-54, 129-45, and 135-113]

RIN 2120-AH88

Revisions to Cockpit Voice Recorder and Digital Flight Data Recorder Regulations

Correction

In rule document E8-3949 beginning on page 12542 in the issue of Friday, March 7, 2008, make the following corrections:

Appendix E to Part 91 [Corrected]

1. On page 12565, Appendix E to Part 91 is corrected as follows:

Appendix E to Part 91.—Airplane Flight Recorder Specifications
Parameters | Range | Installed system ¹ minimum accuracy (to recovered data) | Sampling interval (per second) | Resolution ⁴ read out
* * * * * * *
Stabilizer Trim Position or Pitch Control Position ⁵ | Full Range | ±3% unless higher uniquely required | 1 | ³ 1%
* * * * * * *
¹ When data sources are aircraft instruments (except altimeters) of acceptable quality to fly the aircraft, the recording system, excluding these sensors (but including all other characteristics of the recording system), shall contribute no more than half of the values in this column.
* * * * *
³ Percent of full range.
⁴ This column applies to aircraft manufactured after October 11, 1991.
⁵ For Pitch Control Position only, for all aircraft manufactured on or after April 7, 2010, the sampling interval (per second) is 8. Each input must be recorded at this rate. Alternately sampling inputs (interleaving) to meet this sampling interval is prohibited.

Appendix F to Part 91 [Corrected]

2. On the same page, Appendix F to Part 91 is corrected as follows:

Appendix F to Part 91.—Helicopter Flight Recorder Specifications
Parameters | Range | Installed system ¹ minimum accuracy (to recovered data) | Sampling interval (per second) | Resolution ³ read out
* * * * * * *
Collective ⁴ | Full Range | ±3% | 2 | ² 1%
Pedal Position ⁴ | Full Range | ±3% | 2 | ² 1%
Lat. Cyclic ⁴ | Full Range | ±3% | 2 | ² 1%
Long. Cyclic ⁴ | Full Range | ±3% | 2 | ² 1%
Controllable Stabilator Position ⁴ | Full Range | ±3% | 2 | ² 1%
¹ When data sources are aircraft instruments (except altimeters) of acceptable quality to fly the aircraft, the recording system, excluding these sensors (but including all other characteristics of the recording system), shall contribute no more than half of the values in this column.
² Percent of full range.
³ This column applies to aircraft manufactured after October 11, 1991.
⁴ For all aircraft manufactured on or after April 7, 2010, the sampling interval per second is 4.

Appendix C to Part 135 [Corrected]

3. On page 12571, Appendix C to Part 135 is corrected as follows:

Appendix C to Part 135.—Helicopter Flight Recorder Specifications
Parameters | Range | Installed system ¹ minimum accuracy (to recovered data) | Sampling interval (per second) | Resolution ³ read out
* * * * * * *
Collective ⁴ | Full Range | ±3% | 2 | ² 1%
Pedal Position ⁴ | Full Range | ±3% | 2 | ² 1%
Lat. Cyclic ⁴ | Full Range | ±3% | 2 | ² 1%
Long. Cyclic ⁴ | Full Range | ±3% | 2 | ² 1%
Controllable Stabilator Position ⁴ | Full Range | ±3% | 2 | ² 1%
¹ When data sources are aircraft instruments (except altimeters) of acceptable quality to fly the aircraft, the recording system, excluding these sensors (but including all other characteristics of the recording system), shall contribute no more than half of the values in this column.
² Percent of full range.
³ This column applies to aircraft manufactured after October 11, 1991.
⁴ For all aircraft manufactured on or after April 7, 2010, the sampling interval per second is 4.

Appendix E to Part 135 [Corrected]

4. On the same page, Appendix E to Part 135 is corrected as follows:

Appendix E to Part 135.—Helicopter Flight Recorder Specifications
Parameters | Range | Accuracy sensor input to DFDR readout | Sampling interval (per second) | Resolution ² read out
* * * * * * *
Pilot Input—Primary Controls (Collective, Longitudinal Cyclic, Lateral Cyclic, Pedal) ³ | Full Range | ±3% | 2 | ¹ 0.5%
* * * * * * *
¹ Percent of full range.
² This column applies to aircraft manufactured after October 11, 1991.
³ For all aircraft manufactured on or after April 7, 2010, the sampling interval per second is 4.

[FR Doc. Z8-3949 Filed 3-20-08; 8:45 am]

BILLING CODE 1505-01-D